FEDERAL COMMUNICATIONS COMMISSION

Notice of Public Information Collection(s) Being Reviewed by the Federal Communications Commission for Extension Under Delegated Authority, Comments Requested

October 6, 2008.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by December 9, 2008. If you anticipate that you will be submitting comments, but find it difficult to do so within the period of time allowed by this notice, you should advise the contact listed below as soon as possible.

ADDRESSES: Direct all PRA comments to Nicholas A. Fraser, Office of Management and Budget (OMB), (202) 395-5887, or via fax at 202-395-5167, or via the Internet at Nicholas_A._Fraser@omb.eop.gov and to Judith-B.Herman@fcc.gov, Federal Communications Commission (FCC). To submit your comments by e-mail send them to: PRA@fcc.gov.

To view a copy of this information collection request (ICR) submitted to OMB: (1) Go to the web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an e-mail to Judith B. Herman at 202-418-0214.

SUPPLEMENTARY INFORMATION:

OMB Control No.: 3060-0812.

Title: Exemption from Payment of Regulatory Fees When Claiming Non-Profit Status.

Form No.: N/A.

Type of Review: Extension of a currently approved collection.

Respondents: Not-for-profit institutions and business or other for-profit.

Number of Respondents: 4,500 respondents; 4,950 responses.

Estimated Time per Response: .50 hours.

Frequency of Response: Annual, on occasion and one time reporting requirements and recordkeeping requirement.

Obligation to Respond: Required to obtain or retain benefits. Statutory authority for this information collection (IC) is contained in 47 U.S.C. 159.

Total Annual Burden: 2,475 hours.

Annual Cost Burden: N/A.

Privacy Act Impact Assessment: N/A.

Nature and Extent of Confidentiality: Licensees or regulatees concerned about disclosure of sensitive information in any submissions to the Commission may request confidential treatment pursuant to 47 CFR 0.459 of the Commission's rules.

Needs and Uses: The Commission will submit this information collection as an extension (no change in reporting and recordkeeping requirements) after this 60 day comment period in order to obtain the full three year clearance from the OMB. There is no change in the estimated burden hours.

The Federal Communications Commission (FCC) in accordance with the Communications Act of 1934, as amended, is required to assess and collect regulatory fees from its licensees and regulatees in order to recover its costs incurred in conducting enforcement, policy and rulemaking, and international and user information services.

The purposes for these requirements are to facilitate: (1) The statutory provisions that non-profit entities be exempt from payment of regulatory fees; and the FCC's ability to audit regulatory fee payment compliance.

In order to develop a Schedule of Regulatory Fees, the FCC must as accurately as possible, estimate the number of payment units and distribute the costs. These estimates must be adjusted to account for any licensees or regulatees that are exempt from payment of regulatory fees. The FCC, therefore, requires all licensees and regulatees that claim exemption as non-profit entities to provide one-time only documentation sufficient to establish their non-profit status. Further, the FCC is requesting that it be similarly notified if for any reason that status changes. The documentation necessary to provide to the Commission will likely take the form of an Internal Revenue Service (IRS) “Determination Letter”, a state charter indicating non-profit status, proof of church affiliation indicating tax exempt status, etc.

The FCC is requiring licensees or regulatees to maintain and to make available, upon request, for inspection such records that they would normally keep in the course of doing business. These records are used to compute the amount of regulatory fee payment for period of two years from the time the fee payment was made. This will allow adequate time for the FCC to conduct any audits deemed appropriate to determine whether fee payments were made correctly.

Federal Communications Commission.
Marlene H. Dortch,
Secretary.

[FR Doc. E8-24192 Filed 10-9-08; 8:45 am]

BILLING CODE 6712-01-P